ARCHITECTURAL AND TRANSPORTATION BARRIERS COMPLIANCE BOARD

36 CFR Part 1190

[Docket No. ATBCB 2011-0004]

RIN 3014-AA26

Accessibility Guidelines for Pedestrian Facilities in the Public Right-of-Way

AGENCY: Architectural and Transportation Barriers Compliance Board.

ACTION: Final rule; correction.

SUMMARY: The Architectural and Transportation Barriers Compliance Board (Access Board or Board) is correcting a final rule that appeared in the Federal Register of August 8, 2023. The document provided minimum guidelines for the accessibility of pedestrian facilities in the public right-of-way. The document had an incorrect effective date for the rule.

DATES: The final rule is effective on October 7, 2023.

FOR FURTHER INFORMATION CONTACT: Frances Spiegel, Office of General Counsel, Architectural and Transportation Barriers Compliance Board, 1331 F Street NW, Suite 1000, Washington, DC 20004-1111. Telephone (202) 272-0041. Email address spiegel@access-board.gov.

SUPPLEMENTARY INFORMATION: In FR. Doc. 2023-16149, appearing on page 53604 in the first column, in the Federal Register of Tuesday, August 8, 2023, correct the DATES caption to read:

DATES: The final rule is effective on October 7, 2023.

Dated: August 31, 2023.
Christopher Kuczynski,
General Counsel.

[FR Doc. 2023-19250 Filed 9-6-23; 8:45 am]

BILLING CODE 8150-01-P